DEPARTMENT OF DEFENSE

GENERAL SERVICES ADMINISTRATION

NATIONAL AERONAUTICS AND SPACE ADMINISTRATION

48 CFR Parts 2 and 19

[FAC 2005-27; FAR Case 2008-001; Item II; Docket 2008-001; Sequence 12]

RIN 9000-AL04

Federal Acquisition Regulation; FAR Case 2008-001, Changing the Name of the Office of Small and Disadvantaged Business Utilization for DoD

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to change the name of the “Office of Small and Disadvantaged Business Utilization” to the “Office of Small Business Programs” for the Department of Defense.

DATES: Effective Date: October 17, 2008.

FOR FURTHER INFORMATION CONTACT Ms. Rhonda Cundiff, Procurement Analyst, at (202) 501-0044 for clarification of content. For information pertaining to status or publication schedules, contact the FAR Secretariat at (202) 501-4755. Please cite FAC 2005-27, FAR case 2008-001.

SUPPLEMENTARY INFORMATION:

A. Background

Section 904 of the National Defense Authorization Act for Fiscal Year 2006, Public Law 109-163, re-designated the “Office of Small and Disadvantaged Business Utilization” to the “Office of Small Business Programs” for the Department of Defense, and the Departments of the Army, the Navy, and the Air Force. The office name change, as well as the change in the title of the director of the office, must be noted in the FAR. This case amends the FAR to make the necessary changes.

This is not a significant regulatory action and therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Parts 2 and 19 in accordance with 5 U.S.C. 610. Interested parties must submit such comments separately and should cite 5 U.S.C. 601, et seq. (FAC 2005-27, FAR case 2008-001), in correspondence.

C. Paperwork Reduction Act

The Paperwork Reduction Act does not apply because the changes to the FAR do not impose information collection requirements that require the approval of the Office of Management and Budget under 44 U.S.C. 3501, et seq.

List of Subjects in 48 CFR Parts 2 and 19

Government procurement.

Dated: September 9, 2008.
Al Matera,
Director, Office of Acquisition Policy.

Therefore, DoD, GSA, and NASA amend 48 CFR parts 2 and 19 as set forth below:

1. The authority citation for 48 CFR parts 2 and 19 continues to read as follows:

Authority: 40 U.S.C. 121(c); 10 U.S.C. chapter 137; and 42 U.S.C. 2473(c).

PART 2—DEFINITIONS OF WORDS AND TERMS

2. Amend section 2.101 in paragraph (b)(2) by adding, in alphabetical order, the definition “Office of Small and Disadvantaged Business Utilization” to read as follows:

2.101 Definitions.

(b) * * *

(2) * * *

Office of Small and Disadvantaged Business Utilization means the Office of Small Business Programs when referring to the Department of Defense.

PART 19—SMALL BUSINESS PROGRAMS

3. Amend section 19.201 by revising the introductory text of paragraph (d) and paragraph (d)(1) to read as follows:

19.201 General policy.

(d) The Small Business Act requires each agency with contracting authority to establish an Office of Small and Disadvantaged Business Utilization (see section (k) of the Small Business Act). For the Department of Defense, in accordance with the National Defense Authorization Act for Fiscal Year 2006 (Public Law 109-163), the Office of Small and Disadvantaged Business Utilization has been redesignated as the Office of Small Business Programs. Management of the office shall be the responsibility of an officer or employee of the agency who shall, in carrying out the purposes of the Act—

(1) Be known as the Director of Small and Disadvantaged Business Utilization, or for the Department of Defense, the Director of Small Business Programs;

3. Amend section 19.702 by revising the second and third sentences of paragraph (d) to read as follows:

19.702 Statutory requirements.

(d) * * * However, the mentor-protégé agreement must have been approved by the Director, Small Business Programs of the cognizant DoD military department or defense agency, before developmental assistance costs may be credited against subcontract goals. A list of approved agreements may be obtained at http://www.acq.osd.mil/osbp/mentor_protege/.

[FR Doc. E8-21385 Filed 9-16-08; 8:45 am]

BILLING CODE 6820-EP-S